DEPARTMENT OF COMMERCE

International Trade Administration

[A-570-090]

Certain Steel Trailer Wheels 12 to 16.5 Inches in Diameter From the People's Republic of China: Rescission of Antidumping Duty Administrative Review; 2019-2020

AGENCY: Enforcement and Compliance, International Trade Administration, Department of Commerce.

SUMMARY: The Department of Commerce (Commerce) is rescinding the administrative review of the antidumping duty order on certain steel trailer wheels 12 to 16.5 inches in diameter (steel wheels) from the People's Republic of China (China) for the period April 22, 2019, through August 31, 2020.

DATES: Applicable May 28, 2021.

FOR FURTHER INFORMATION CONTACT: Alex Cipolla, AD/CVD Operations, Office III, Enforcement and Compliance, International Trade Administration, Department of Commerce, 1401 Constitution Avenue NW, Washington, DC 20230; telephone: (202) 482-4956.

SUPPLEMENTARY INFORMATION:

Background

On October 30, 2020, based on timely requests for review of five companies by TRAILSTAR LLC (Trailstar),¹ Trans Texas Tire, LLC (Trans Texas),² and Rimco Inc. (Rimco),³ Commerce published in the Federal Register a notice of initiation of an administrative review of the antidumping duty order on steel wheels from China covering the period April 22, 2019, through August 31, 2020.⁴

¹ See Trailstar's Letter, “Request for Administrative Review of the Antidumping Duty Order on Certain Steel Wheels 12 to 16.5 Inches in Diameter from the People's Republic of China,” dated September 30, 2020 (Trailstar's Review Request) (requesting review of Zhejiang Jingu Company Limited).

² See Trans Texas' Letter, “Request for Administrative Review of the Antidumping Duty Order on Certain Steel Wheels 12 to 16.5 Inches in Diameter from the People's Republic of China,” dated September 30, 2020 (Trans Texas' Review Request) (requesting review of Xingmin Intelligent Transportation Systems (Group) Co., Ltd.).

³ See Rimco's Letter, “Antidumping Duty Order, Certain Steel Wheels 12 to 16.5 Inches from the People's Republic of China: Request for a First Administrative Review,” dated September 29, 2020 (Rimco's Review Request) (requesting review of Xiamen Topu Imports & Export Co., Ltd., Shanghai Yata Industry Co., Ltd., and Hangzhou Antego Industry Co. Ltd.).

⁴ See Initiation of Antidumping and Countervailing Duty Administrative Reviews, 85 FR 68840 (October 30, 2020) (Initiation Notice).

On November 24 and November 25, 2020, respectively, Trans Texas and Trailstar withdrew their respective review requests.⁵ On January 21, 2021, Rimco withdrew its request for an administrative review.⁶ No other interested parties requested an administrative review.

⁵ See Trans Texas' Letter, “Withdrawal of Request for Administrative Review of the Antidumping Duty Order on Certain Steel Wheels 12 to 16.5 Inches in Diameter from the People's Republic of China,” dated November 24, 2020; see also Trailstar's Letter, “Withdrawal of Request for Administrative Review of the Antidumping Duty Order on Certain Steel Wheels 12 to 16.5 Inches in Diameter from the People's Republic of China,” dated November 25, 2020.

⁶ See Rimco's Letter, “Withdrawal of Request for Administrative Review of Antidumping Duty Order, Certain Steel Wheels 12 to 16.5 Inches from the People's Republic of China,” dated January 21, 2021.

Rescission of Review

Pursuant to 19 CFR 351.213(d)(1), Commerce will rescind an administrative review, in whole or in part, if the party that requested the review withdraws its request within 90 days of the date of publication of the notice of initiation of the requested review. Because Trailstar, Trans Texas, and Rimco's review requests were withdrawn within 90 days of the date of publication of the Initiation Notice, and no other interested party requested a review, Commerce is rescinding this review in accordance with 19 CFR 351.213(d)(1), in its entirety.

Assessment

Commerce will instruct U.S. Customs and Border Protection (CBP) to assess antidumping duties on all appropriate entries at a rate equal to the cash deposit of estimated antidumping duties required at the time of entry, or withdrawal from warehouse, for consumption, during the period April 22, 2019, through August 31, 2020, in accordance with 19 CFR 351.212(c)(1)(i). Commerce intends to issue appropriate assessment instructions to CBP 35 days after the date of publication of this notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping duties and/or countervailing duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: May 24, 2021.
James Maeder,
Deputy Assistant Secretary for Antidumping and Countervailing Duty Operations.

[FR Doc. 2021-11346 Filed 5-27-21; 8:45 am]

BILLING CODE 3510-DS-P